DEPARTMENT OF HEALTH AND HUMAN SERVICES

National Institutes of Health

Center for Scientific Review; Amended Notice of Meeting

Notice is hereby given of a change in the meeting of the Center for Scientific Review Special Emphasis Panel, PAR-19-367: Maximizing Investigators' Research Award, February 23-24, 2023, 10:00 a.m. to 8:00 p.m., National Institutes of Health, Rockledge II, 6701 Rockledge Drive, Bethesda, MD 20892 (Virtual Meeting), which was published in the Federal Register on January 31, 2023, 88 FR 6288, Doc 2023-01953.

This meeting is being amended to change the panel name to “PAR-20-117: Maximizing Investigators' Research Award for Early-Stage Investigators”. The meeting is closed to the public.

Dated: February 15, 2023.
David W. Freeman,
Program Analyst, Office of Federal Advisory Committee Policy.

[FR Doc. 2023-03572 Filed 2-21-23; 8:45 am]

BILLING CODE 4140-01-P